NUCLEAR REGULATORY COMMISSION

[Docket Nos. 50-361 and 50-362; NRC-2012-0192]

Southern California Edison, San Onofre Nuclear Generating Station, Units 2 and 3; Application and Amendment to Facility Operating License Involving Proposed No Significant Hazards Consideration Determination

AGENCY: Nuclear Regulatory Commission.

ACTION: License amendment request; opportunity to comment, request a hearing and petition for leave to intervene.

DATES: Comments must be filed by September 17, 2012. A request for a hearing must be filed by October 15, 2012.

ADDRESSES: You may access information and comment submissions related to this document, which the NRC possesses and are publicly available, by searching on http://www.regulations.gov under Docket ID NRC-2012-0192. You may submit comments by any of the following methods:

• Federal Rulemaking Web site: Go to http://www.regulations.gov and search for Docket ID NRC-2012-0192. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Joseph M. Sebrosky, Senior Project Manager, Office of Nuclear Reactor Regulation, U.S. Nuclear Regulatory Commission, Washington, DC 20555-0001; telephone: 301-415-1132; email: Joseph.Sebrosky@nrc.gov.

SUPPLEMENTARY INFORMATION:

I. Accessing Information and Submitting Comments

A. Accessing Information

Please refer to Docket ID NRC-2012-0192 when contacting the NRC about the availability of information regarding this document. You may access information related to this document, which the NRC possesses and are publicly available, by any of the following methods:

• Federal Rulemaking Web site: Go to http://www.regulations.gov and search for Docket ID NRC-2012-0192.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The application for amendment, dated July 29, 2011 is available electronically under ADAMS Accession No. ML112510214.

• NRC's PDR: You may examine and purchase copies of public documents at the NRC's PDR, Room O1-F21, One White Flint North, 11555 Rockville Pike, Rockville, Maryland 20852.

B. Submitting Comments

Please include Docket ID NRC-2012-0192 in the subject line of your comment submission, in order to ensure that the NRC is able to make your comment submission available to the public in this docket.

The NRC cautions you not to include identifying or contact information in comment submissions that you do not want to be publicly disclosed. The NRC posts all comment submissions at http://www.regulations.gov as well as enters the comment submissions into ADAMS. The NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Introduction

The U.S. Nuclear Regulatory Commission (NRC, the Commission) is considering issuance of an amendment to Facility Operating License Nos. NPF-10 and NPF-15 issued to Southern California Edison Company (SCE, the licensee) for operation of the San Onofre Nuclear Generating Station (SONGS), Units 2 and 3, located in San Diego County, California.

The licensee submitted a license amendment request (LAR) for SONGS, Units 2 and 3, dated July 29, 2011, requesting approval to convert the Current Technical Specifications (CTS) to be consistent with the most recently approved version of the Standard Technical Specifications (STS) for Combustion Engineering Plants, NUREG-1432. In 1996, SONGS was the first plant to adopt the STS for Combustion Engineering plants (NUREG-1432, Revision 0). Over time, a number of changes and revisions have been made to those STS, and this LAR seeks to update the SONGS CTS to the Improved STS (ITS) reflected in NUREG-1432, Revision 3, with the additional adoption of some recent Technical Specification Task Force (TSTF) travelers. The LAR also includes beyond scope changes that are beyond the scope of the ITS as described in NUREG-1432, Revision 3, and beyond the scope of the SONGS CTS.

Attachment 1 of the LAR contains 15 volumes; Volumes 1-14 provide a detailed description of the proposed changes to the following ITS Chapters and Sections:

Volume 1 | ITS Chapter 1.0, Use and Application
Volume 2 | ITS Chapter 2.0, Safety Limits (SLs)
Volume 3 | ITS Section 3.0, Limiting Condition for Operation (LCO) Applicability and Surveillance Requirement (SR) Applicability
Volume 4 | ITS Section 3.1, Reactivity Control Systems
Volume 5 | ITS Section 3.2, Power Distribution Limits
Volume 6 | ITS Section 3.3, Instrumentation
Volume 7 | ITS Section 3.4, Reactor Coolant System (RCS)
Volume 8 | ITS Section 3.5, Emergency Core Cooling Systems (ECCS)
Volume 9 | ITS Section 3.6, Containment Systems
Volume 10 | ITS Section 3.7, Plant Systems
Volume 11 | ITS Section 3.8, Electrical Power Systems
Volume 12 | ITS Section 3.9, Refueling Operations
Volume 13 | ITS Chapter 4.0, Design Features
Volume 14 | ITS Chapter 5.0, Administrative Controls

Enclosure 2 of the LAR provides a description of the three beyond scope changes, and Enclosure 3 includes a list of the TSTFs that would be adopted in whole or in part in the proposed amendment.

This notice is based on the LAR dated July 29, 2011, and the information provided to the NRC through the San Onofre ITS Conversion Web page hosted by Excel Services Corporation at http://www.excelservices.com. To expedite the review of the application, the NRC staff issued or will issue its requests for additional information (RAIs) and the licensee addressed or will address the RAIs through the ITS Conversion Web page. Entry into the database is protected so that only the licensee and NRC reviewers can enter information into the database to add RAIs (NRC) or provide responses to the RAIs (the licensee); however, the public can enter the database to read the questions asked and the responses provided. To be in compliance with the regulations for written communications for LARs and to have the database on the SONGS dockets before the amendments would be issued, the licensee will provide a copy of the database in a submittal to the NRC after there are no future RAIs and before the amendments can be issued. The RAIs and responses to RAIs are organized by ITS Section.

The licensee has classified each proposed change to the SONGS CTS into one of the following five categories (with its letter designator within brackets):

• Administrative changes (A)—Changes to the CTS that do not result in new requirements or change operational restrictions or flexibility. These changes are supported in aggregate by a single generic no significant hazards consideration (NSHC).

• More restrictive changes (M)—Changes to the CTS that result in added restrictions or reduced flexibility. These changes are supported in aggregate by a single generic NSHC.

• Relocated specifications (R)—Changes to the CTS that relocate specifications that do not meet the selection criteria of Title 10 of the Code of Federal Regulations (10 CFR) 50.36(c)(2)(ii). These changes are supported in aggregate by a single generic NSHC.

• Removed detail changes (LA)—Changes to the CTS that eliminate detail and relocate the detail to a licensee-controlled document. Typically, this involves details of system design and function, or procedural detail on methods of conducting a Surveillance Requirement (SR). These changes are supported in aggregate by a single generic NSHC.

• Less restrictive changes (L)—Changes to the CTS that result in reduced restrictions or added flexibility. These changes are supported either in aggregate by a generic NSHC that addresses a particular category of less restrictive change, or by a specific NSHC if the change does not fall into one of the eight categories of less restrictive changes. The eight categories of less restrictive changes are designated as:

—Category 1—Relaxation of LCO Requirements

—Category 2—Relaxation of Applicability

—Category 3—Relaxation of Completion Time

—Category 4—Relaxation of Required Action

—Category 5—Deletion of Surveillance Requirement

—Category 6—Relaxation of Surveillance Requirement Acceptance Criteria

—Category 7—Relaxation of Surveillance Frequency

—Category 8—Deletion of Reporting Requirements

If the less restrictive change is covered by a generic NSHC, the category of the change is identified in italics at the beginning of the discussion of changes (DOCs) in the LAR.

The three less restrictive changes covered by a specific NSHC are described in the LAR in ITS 1.0, “Use and Applications,” Less Restrictive Change L01 (Attachment 1, Volume 1, page 112), and ITS 3.0, “LCO and SR Applicability,” Less Restrictive Changes L01 and L02 (Attachment 1, Volume 3, pages 2 and 4, respectively).

Administrative Changes. Some of the proposed changes involve reformatting, renumbering, and rewording of CTS with no change in intent. These changes, since they do not involve technical changes to the CTS, are administrative. This type of change is connected with the movement of requirements within the current requirements, or with the modification of wording that does not affect the technical content of the CTS. These changes also include non-technical modifications of requirements to conform to TSTF-GG-05-01, “Writer's Guide for Plant-Specific Improved Standard Technical Specifications,” or provide consistency with the ITS in NUREG-1432. Administrative changes are not intended to add, delete, or relocate any technical requirements of the CTS.

More Restrictive Changes. Some of the proposed changes involve adding more restrictive requirements to the CTS by either making current requirements more stringent or by adding new requirements that currently do not exist. These changes include additional requirements that decrease allowed outage times, increase the Frequency of Surveillances, impose additional Surveillances, increase the scope of Specifications to include additional plant equipment, increase the Applicability of Specifications, or provide additional actions. These changes are generally made to conform to NUREG-1432 and have been evaluated to not be detrimental to plant safety.

Relocated Specifications. Some of the proposed changes involve relocating CTS LCOs to licensee-controlled documents. SCE has evaluated the CTS using the criteria set forth in 10 CFR 50.36. Specifications identified by this evaluation that did not meet the retention requirements specified in the regulation are not included in the ITS. These specifications have been relocated from the CTS to either the Licensee Controlled Specification (LCS), which is currently incorporated by reference into the Updated Final Safety Analysis Report (UFSAR) or the UFSAR.

Removed Detail Changes. Some of the proposed changes involve moving details out of the CTS and into the TS Bases, the UFSAR, the Containment Leakage Rate Testing (CLRT) Program, the LCS, or other documents under regulatory control, such as the Offsite Dose Calculation Manual (ODCM), the Quality Assurance Program (QAP), the Inservice Testing (IST) Program, the Inservice Inspection (ISI) Program, and the Surveillance Frequency Control Program (SFCP). The removal of this information is considered to be less restrictive because it is no longer controlled by the TS change process. Typically, the information moved is descriptive in nature and its removal conforms to NUREG-1432 for format and content.

Less Restrictive Changes—Category 1—Relaxation of LCO Requirements. Some of the proposed changes involve relaxation of the CTS Limiting Conditions for Operation (LCOs) by the elimination of specific items from the LCO or Tables referenced in the LCO, or the addition of exceptions to the LCO. These changes reflect the ITS approach to provide LCO requirements that specify the protective conditions that are required to meet safety analysis assumptions for required features. These conditions replace the lists of specific devices used in the CTS to describe the requirements needed to meet the safety analysis assumptions. The ITS also includes LCO Notes which allow exceptions to the LCO for the performance of testing or other operational needs. The ITS provides the protection required by the safety analysis, and provides flexibility for meeting the conditions without adversely affecting operations since equivalent features are required to be OPERABLE. The ITS is also consistent with the plant current licensing basis, as may be modified in the discussion of individual changes. These changes are generally made to conform with NUREG-1432, and have been evaluated to not be detrimental to plant safety.

Less Restrictive Changes—Category 2—Relaxation of Applicability. Some of the proposed changes involve relaxation of the applicability of CTS LCOs by reducing the conditions under which the LCO requirements must be met. CTS requirements are being eliminated during conditions for which the safety function of the specified safety system is met because the feature is performing its intended safety function. Deleting applicability requirements that are indeterminate or which are inconsistent with application of accident analyses assumptions is acceptable because when LCOs cannot be met, the ITS may be satisfied by exiting the applicability which takes the plant out of the conditions that require the safety system to be OPERABLE. This change provides the protection required by the safety analyses, and provides flexibility for meeting limits by restricting the application of the limits to the conditions assumed in the safety analyses. The ITS is also consistent with the plant current licensing basis, as may be modified in the discussion of individual changes. The change is generally made to conform with NUREG-1432, and has been evaluated to not be detrimental to plant safety.

Less Restrictive Changes—Category 3—Relaxation of Completion Time. Some of the proposed changes involve relaxation of the Completion Times for Required Actions in the CTS. Upon discovery of a failure to meet an LCO, the ITS specifies times for completing Required Actions of the associated Conditions. Required Actions of the associated Conditions are used to establish remedial measures that must be taken within specified Completion Times. These times define limits during which operation in a degraded condition is permitted. Adopting Completion Times from the ITS is acceptable because the Completion Times take into account the OPERABILITY status of the redundant systems of required features, the capacity and capability of remaining features, a reasonable time for repairs or replacement of required features, and the low probability of a Design Basis Accident (DBA) occurring during the repair period. In addition, the ITS provides consistent Completion Times for similar conditions. These changes are generally made to conform with NUREG-1432, and have been evaluated to not be detrimental to plant safety.

Less Restrictive Changes—Category 4—Relaxation of Required Action. Some of the proposed changes involve relaxation of the Required Actions in the CTS. Upon discovery of a failure to meet an LCO, the ITS specifies Required Actions to complete for the associated Conditions. Required Actions of the associated Conditions are used to establish remedial measures that must be taken in response to the degraded conditions. These actions minimize the risk associated with continued operation while providing time to repair inoperable features. Some of the Required Actions are modified to place the plant in a MODE in which the LCO does not apply. Adopting Required Actions from NUREG-1432 is acceptable because the Required Actions take into account the OPERABILITY status of redundant systems of required features, the capacity and capability of the remaining features, and the compensatory attributes of the Required Actions as compared to the LCO requirements. These changes are generally made to conform with NUREG-1432, and have been evaluated to not be detrimental to plant safety.

Less Restrictive Changes—Category 5—Deletion of Surveillance Requirement. Some of the proposed changes involve deletion of SRs in the CTS. The CTS require safety systems to be tested and verified OPERABLE prior to entering applicable operating conditions. The ITS eliminates unnecessary CTS SRs that do not contribute to verification that the equipment used to meet the LCO can perform its required functions. Thus, appropriate equipment continues to be tested in a manner and at a frequency necessary to give confidence that the equipment can perform its assumed safety functions. These changes are generally made to conform with NUREG-1432, and have been evaluated to not be detrimental to plant safety.

Less Restrictive Changes—Category 6—Relaxation of Surveillance Requirement Acceptance Criteria. Some of the proposed changes involve the relaxation of SRs acceptance criteria in the CTS. The CTS require safety systems to be tested and verified OPERABLE prior to entering applicable operating conditions. The ITS eliminates or relaxes the SR acceptance criteria that do not contribute to verification that the equipment used to meet the LCO can perform its required functions. For example, the ITS allows some SRs to verify OPERABILITY under actual or test conditions. Adopting the ITS allowance for “actual” conditions is acceptable because required features cannot distinguish between an “actual” signal or a “test” signal. Also included are changes to CTS requirements that are replaced in the ITS with separate and distinct testing requirements that when combined, include OPERABILITY verification of all components required in the LCO for the features specified in the CTS. Adopting this format preference in the ITS is acceptable because SRs that remain include testing of all previous features required to be verified OPERABLE. Changes that provide exceptions to SRs to provide for variations that do not affect the results of the test are also included in this category. These changes are generally made to conform with NUREG-1432, and have been evaluated to not be detrimental to plant safety.

Less Restrictive Changes—Category 7—Relaxation of Surveillance Frequency. Some of the proposed changes involve the relaxation of Surveillance Frequencies in the CTS. CTS and ITS Surveillance Frequencies specify time interval requirements for performing Surveillance tests. Increasing the time interval between Surveillance tests in the ITS results in decreased equipment unavailability due to testing which also increases equipment availability. In general, the ITS contain Surveillance Frequencies that are consistent with industry practice or industry standards for achieving acceptable levels of equipment reliability. Adopting testing practices specified in the ITS is acceptable based on similar design, like-component testing for the system application and the availability of other ITS requirements which provide regular checks to ensure limits are met. Relaxation of Surveillance Frequency can also include the addition of Surveillance Notes which allow testing to be delayed until appropriate unit conditions for the test are established, or exempt testing in certain MODES or specified conditions in which the testing cannot be performed.

Reduced testing can result in a safety enhancement because the unavailability due to testing is reduced, and reliability of the affected structure, system or component should remain constant or increase. Reduced testing is acceptable where operating experience, industry practice, or the industry standards such as manufacturers' recommendations have shown that these components usually pass the Surveillance when performed at the specified interval, thus the Surveillance Frequency is acceptable from a reliability standpoint. Surveillance Frequency changes to incorporate alternate train testing have been shown to be acceptable where other qualitative or quantitative test requirements are required that are established predictors of system performance. Surveillance Frequency extensions can be based on NRC-approved topical reports. The NRC staff has accepted topical report analyses that bound the plant-specific design and component reliability assumptions. These changes are generally made to conform with NUREG-1432, and have been evaluated to not be detrimental to plant safety.

Less Restrictive Changes—Category 8—Deletion of Reporting Requirements. Some of the proposed changes involve the deletion of requirements in the CTS to send reports to the NRC. The CTS includes requirements to submit reports to the NRC under certain circumstances. However, the ITS eliminates these requirements for many such reports and, in many cases, relies on the reporting requirements of 10 CFR 50.73 or other regulatory requirements. The ITS changes to reporting requirements are acceptable because the regulations provide adequate reporting requirements, or the reports do not affect continued plant operation. Therefore, this change has no effect on the safe operation of the plant. These changes are generally made to conform with NUREG-1432, and have been evaluated to not be detrimental to plant safety.

Before issuance of the proposed license amendment, the Commission will have made findings required by the Atomic Energy Act of 1954, as amended (the Act), and the Commission's regulations.

The Commission has made a proposed determination that the amendment request involves no significant hazards consideration. Under the Commission's regulations in Title 10 of the Code of Federal Regulations (10 CFR) 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of NSHC, by classification of change, which is presented below. The generic proposed NSHC, by classification of change, are listed first, followed by the specific proposed NSHC related to ITS Chapter 1.0 Less Restrictive Change L01, ITS Section 3.0 Less Restrictive Change L01, and ITS Section 3.0 Less Restrictive change L02 (changes that do not fall into one of the eight categories of less restrictive changes).

Generic Proposed NSHC

Administrative Changes

1. Does the proposed change involve a significant increase in the probability or consequences of an accident previously evaluated?

Response: No.

The proposed change involves reformatting, renumbering, and rewording the CTS. The reformatting, renumbering, and rewording process involves no technical changes to the CTS. As such, this change is administrative in nature and does not affect initiators of analyzed events or assumed mitigation of accident or transient events.

Therefore, the proposed change does not involve a significant increase in the probability or consequences of an accident previously evaluated.

2. Does the proposed change create the possibility of a new or different kind of accident from any accident previously evaluated?

Response: No.

The proposed change does not involve a physical alteration of the plant (no new or different type of equipment will be installed) or changes in methods governing normal plant operation. The proposed change will not impose any new or eliminate any old requirements.

Therefore, the proposed change does not create the possibility of a new or different kind of accident from any previously evaluated.

3. Does the proposed change involve a significant reduction in a margin of safety?

Response: No.

The proposed change will not reduce a margin of safety because it has no effect on any safety analyses assumptions. This change is administrative in nature.

Therefore, the proposed change does not involve a significant reduction in a margin of safety.

More Restrictive Changes

1. Does the proposed change involve a significant increase in the probability or consequences of an accident previously evaluated?

Response: No.

The proposed change provides more stringent Technical Specification requirements for the facility. These more stringent requirements do not result in operations that significantly increase the probability of initiating an analyzed event, and do not alter assumptions relative to mitigation of an accident or transient event. The more restrictive requirements continue to ensure process variables, structures, systems, and components are maintained consistent with the safety analyses and licensing basis.

Therefore, the proposed change does not involve a significant increase in the probability or consequences of an accident previously evaluated.

2. Does the proposed change create the possibility of a new or different kind of accident from any accident previously evaluated?

Response: No.

The proposed change does not involve a physical alteration of the plant (no new or different type of equipment will be installed) or changes in methods governing normal plant operation. The proposed change does impose different Technical Specification requirements. However, these changes are consistent with the assumptions in the safety analyses and licensing basis.

Therefore, the proposed change does not create the possibility of a new or different kind of accident from any previously evaluated.

3. Does the proposed change involve a significant reduction in a margin of safety?

Response: No.

The imposition of more restrictive requirements either has no effect on or increases the margin of plant safety. As provided in the discussion of change, each change in this category is, by definition, providing additional restrictions to enhance plant safety. The change maintains requirements within the safety analyses and licensing basis.

Therefore, the proposed change does not involve a significant reduction in a margin of safety.

Relocated Specifications

1. Does the proposed change involve a significant increase in the probability or consequences of an accident previously evaluated?

Response: No.

The proposed change relocates requirements and Surveillances for structures, systems, components, or variables that do not meet the criteria of 10 CFR 50.36(c)(2)(ii) for inclusion in Technical Specifications as identified in the Application of Selection Criteria to the SONGS Technical Specifications. The affected structures, systems, components or variables are not assumed to be initiators of analyzed events and are not assumed to mitigate accident or transient events. The requirements and Surveillances for these affected structures, systems, components, or variables will be relocated from the CTS to the LCS, which is currently incorporated by reference into the UFSAR, thus it will be maintained pursuant to 10 CFR 50.59. The UFSAR is subject to the change control provisions of 10 CFR 50.59 and 10 CFR 50.71(e). In addition, the affected structures, systems, components, or variables are addressed in existing surveillance procedures which are also controlled by 10 CFR 50.59, and are subject to the change control provisions imposed by plant administrative procedures, which endorse applicable regulations and standards.

Therefore, the proposed change does not involve a significant increase in the probability or consequences of an accident previously evaluated.

2. Does the proposed change create the possibility of a new or different kind of accident from any accident previously evaluated?

Response: No.

The proposed change does not involve a physical alteration of the plant (no new or different type of equipment will be installed) or change in the methods governing normal plant operation. The proposed change will not impose or eliminate any requirements, and adequate control of existing requirements will be maintained.

Therefore, the proposed change does not create the possibility of a new or different kind of accident from any previously evaluated.

3. Does the proposed change involve a significant reduction in a margin of safety?

Response: No.

The proposed change will not reduce a margin of safety because it has no significant effect on any safety analyses assumptions, as indicated by the fact that the requirements do not meet the 10 CFR 50.36 criteria for retention. In addition, the relocated requirements are moved without change, and any future changes to these requirements will be evaluated per 10 CFR 50.59.

NRC prior review and approval of changes to these relocated requirements, in accordance with 10 CFR 50.92, will no longer be required. This review and approval does not provide a specific margin of safety that can be evaluated. However, the proposed change is consistent with NUREG-1432, issued by the NRC, which allows revising the CTS to relocate these requirements and Surveillances to a licensee controlled document.

Therefore, the proposed change does not involve a significant reduction in the margin of safety.

Removed Detail Changes

1. Does the proposed change involve a significant increase in the probability or consequences of an accident previously evaluated?

Response: No.

The proposed change relocates certain details from the CTS to other documents under regulatory control. The Technical Specification Bases and the LCS, which is currently incorporated by reference into the UFSAR, will be maintained in accordance with 10 CFR 50.59. In addition to 10 CFR 50.59 provisions, the Technical Specification Bases are subject to the change control provisions in the Administrative Controls Chapter of the ITS. The UFSAR is subject to the change control provisions of 10 CFR 50.59 and 10 CFR 50.71(e). Other documents are subject to controls imposed by the ITS or other regulations. Since any changes to these documents will be evaluated, no significant increase in the probability or consequences of an accident previously evaluated will be allowed.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operations. The proposed change will not impose or eliminate any requirements, and adequate control of the information will be maintained.

Therefore, the proposed change does not create the possibility of a new or different kind of accident from any previously evaluated.

3. Does the proposed change involve a significant reduction in a margin of safety?

Response: No.

The proposed change will not reduce a margin of safety because it has no effect on any assumption of the safety analyses. In addition, the details to be moved from the CTS to other documents are not being changed. Since any future changes to these details will be evaluated under the applicable regulatory change control mechanism, no significant reduction in a margin of safety will be allowed. A significant reduction in the margin of safety is not associated with the elimination of the 10 CFR 50.90 requirement for NRC review and approval of future changes to the relocated details. Not including these details in the Technical Specifications is consistent with NUREG-1432, issued by the NRC, which allows revising the Technical Specifications to relocate these requirements and Surveillances to a licensee controlled document controlled by 10 CFR 50.59, 10 CFR 50.71(e), or other Technical Specification controlled or regulation controlled documents.

Therefore, the proposed change does not involve a significant reduction in the margin of safety.

Less Restrictive Changes—Category 1—Relaxation of LCO Requirements

1. Does the proposed change involve a significant increase in the probability or consequences of an accident previously evaluated?

Response: No.

The proposed change provides less restrictive LCO requirements for operation of the facility. These less restrictive LCO requirements do not result in operation that will significantly increase the probability of initiating an analyzed event and do not alter assumptions relative to mitigation of an accident or transient event in that the requirements continue to ensure process variables, structures, systems, and components are maintained consistent with the current safety analyses and licensing basis.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The proposed change does impose different requirements. However, the change is consistent with the assumptions in the current safety analyses and licensing basis.

Therefore, the proposed change does not create the possibility of a new or different kind of accident from any previously evaluated.

3. Does the proposed change involve a significant reduction in a margin of safety?

Response: No.

The imposition of less restrictive LCO requirements does not involve a significant reduction in the margin of safety. As provided in the discussion of change, this change has been evaluated to ensure that the current safety analyses and licensing basis requirements are maintained.

Therefore, the proposed change does not involve a significant reduction in a margin of safety.

Less Restrictive Changes—Category 2—Relaxation of Applicability

1. Does the proposed change involve a significant increase in the probability or consequences of an accident previously evaluated?

Response: No.

The proposed change relaxes the conditions under which the LCO requirements for operation of the facility must be met. These less restrictive applicability requirements for the LCOs do not result in operation that will significantly increase the probability of initiating an analyzed event and do not alter assumptions relative to mitigation of an accident or transient event in that the requirements continue to ensure that process variables, structures, systems, and components are maintained in the MODES and other specified conditions assumed in the safety analyses and licensing basis.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The proposed change does impose different requirements. However, the requirements are consistent with the assumptions in the safety analyses and licensing basis.

Therefore, the proposed change does not create the possibility of a new or different kind of accident from any previously evaluated.

3. Does the proposed change involve a significant reduction in a margin of safety?

Response: No.

The relaxed applicability of LCO requirements does not involve a significant reduction in the margin of safety. As provided in the discussion of change, this change has been evaluated to ensure that the LCO requirements are applied in the MODES and specified conditions assumed in the safety analyses and licensing basis.

Therefore, the proposed change does not involve a significant reduction in a margin of safety.

Less Restrictive Changes—Category 3—Relaxation of Completion Time

1. Does the proposed change involve a significant increase in the probability or consequences of an accident previously evaluated?

Response: No.

The proposed change relaxes the Completion Time for a Required Action. Required Actions and their associated Completion Times are not initiating conditions for any accident previously evaluated, and the accident analyses do not assume that required equipment is out of service prior to the analyzed event. Consequently, the relaxed Completion Time does not significantly increase the probability of any accident previously evaluated. The consequences of an analyzed accident during the relaxed Completion Time are the same as the consequences during the existing Completion Time. As a result, the consequences of any accident previously evaluated are not significantly increased.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the method governing normal plant operation. The Required Actions and associated Completion Times in the ITS have been evaluated to ensure that no new accident initiators are introduced.

Therefore, the proposed change does not create the possibility of a new or different kind of accident from any previously evaluated.

3. Does the proposed change involve a significant reduction in a margin of safety?

Response: No.

The relaxed Completion Time for a Required Action does not involve a significant reduction in the margin of safety. As provided in the discussion of change, the change has been evaluated to ensure that the allowed Completion Time is consistent with safe operation under the specified Condition, considering the OPERABILITY status of the redundant systems of required features, the capacity and capability of remaining features, a reasonable time for repairs or replacement of required features, and the low probability of a DBA occurring during the repair period.

Therefore, the proposed change does not involve a significant reduction in a margin of safety.

Less Restrictive Changes—Category 4—Relaxation of Required Action

1. Does the proposed change involve a significant increase in the probability or consequences of an accident previously evaluated?

Response: No.

The proposed change relaxes Required Actions. Required Actions and their associated Completion Times are not initiating conditions for any accident previously evaluated, and the accident analyses do not assume that required equipment is out of service prior to the analyzed event. Consequently, the relaxed Required Actions do not significantly increase the probability of any accident previously evaluated. The Required Actions in the ITS have been developed to provide appropriate remedial actions to be taken in response to the degraded condition considering the OPERABILITY status of the redundant systems of required features, and the capacity and capability of remaining features while minimizing the risk associated with continued operation. As a result, the consequences of any accident previously evaluated are not significantly increased.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The Required Actions and associated Completion Times in the ITS have been evaluated to ensure that no new accident initiators are introduced.

Therefore, the proposed change does not create the possibility of a new or different kind of accident from any previously evaluated.

3. Does the proposed change involve a significant reduction in a margin of safety?

Response: No.

The relaxed Required Actions do not involve a significant reduction in the margin of safety. As provided in the discussion of change, this change has been evaluated to minimize the risk of continued operation under the specified Condition, considering the OPERABILITY status of the redundant systems of required features, the capacity and capability of remaining features, a reasonable time for repairs or replacement of required features, and the low probability of a Design Basis Accident (DBA) occurring during the repair period.

Therefore, the proposed change does not involve a significant reduction in a margin of safety.

Less Restrictive Changes—Category 5—Deletion of Surveillance Requirement

1. Does the proposed change involve a significant increase in the probability or consequences of an accident previously evaluated?

Response: No.

The proposed change deletes Surveillance Requirements. Surveillances are not initiators to any accident previously evaluated. Consequently, the probability of an accident previously evaluated is not significantly increased. The equipment being tested is still required to be OPERABLE and capable of performing the accident mitigation functions assumed in the accident analyses. As a result, the consequences of any accident previously evaluated are not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation. The remaining Surveillance Requirements are consistent with industry practice, and are considered sufficient to prevent the removal of the subject Surveillances from creating a new or different type of accident.

Therefore, the proposed change does not create the possibility of a new or different kind of accident from any previously evaluated.

3. Does the proposed change involve a significant reduction in a margin of safety?

Response: No.

The deleted Surveillance Requirements do not result in a significant reduction in the margin of safety. As provided in the discussion of change, the change has been evaluated to ensure that the deleted Surveillance Requirements are not necessary for verification that the equipment used to meet the LCO can perform its required functions. Thus, appropriate equipment continues to be tested in a manner and at a frequency necessary to give confidence that the equipment can perform its assumed safety function.

Therefore, the proposed change does not involve a significant reduction in a margin of safety.

Less Restrictive Changes—Category 6—Relaxation of Surveillance Requirement Acceptance Criteria

1. Does the proposed change involve a significant increase in the probability or consequences of an accident previously evaluated?

Response: No.

The proposed change relaxes the acceptance criteria of Surveillance Requirements. Surveillances are not initiators to any accident previously evaluated. Consequently, the probability of an accident previously evaluated is not significantly increased. The equipment being tested is still required to be OPERABLE and capable of performing the accident mitigation functions assumed in the accident analyses. As a result, the consequences of any accident previously evaluated are not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation.

Therefore, the proposed change does not create the possibility of a new or different kind of accident from any previously evaluated.

3. Does the proposed change involve a significant reduction in a margin of safety?

Response: No.

The relaxed acceptance criteria for Surveillance Requirements do not result in a significant reduction in the margin of safety. As provided in the discussion of change, the relaxed Surveillance Requirement acceptance criteria have been evaluated to ensure that they are sufficient to verify that the equipment used to meet the LCO can perform its required functions. Thus, appropriate equipment continues to be tested in a manner that gives confidence that the equipment can perform its assumed safety function.

Therefore, the proposed change does not involve a significant reduction in a margin of safety.

Less Restrictive Changes—Category 7—Relaxation of Surveillance Frequency

1. Does the proposed change involve a significant increase in the probability or consequences of an accident previously evaluated?

Response: No.

The proposed change relaxes Surveillance Frequencies. The relaxed Surveillance Frequencies have been established based on achieving acceptable levels of equipment reliability. Consequently, equipment that could initiate an accident previously evaluated will continue to operate as expected, and the probability of the initiation of any accident previously evaluated will not be significantly increased. The equipment being tested is still required to be OPERABLE and capable of performing any accident mitigation functions assumed in the accident analyses. As a result, the consequences of any accident previously evaluated are not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation.

Therefore, the proposed change does not create the possibility of a new or different kind of accident from any previously evaluated.

3. Does the proposed change involve a significant reduction in a margin of safety?

Response: No.

The relaxed Surveillance Frequencies do not result in a significant reduction in the margin of safety. As provided in the discussion of change, the relaxation in the Surveillance Frequency has been evaluated to ensure that it provides an acceptable level of equipment reliability. Thus, appropriate equipment continues to be tested at a Frequency that gives confidence that the equipment can perform its assumed safety function when required.

Therefore, the proposed change does not involve a significant reduction in a margin of safety.

Less Restrictive Changes—Category 8—Deletion of Reporting Requirements

1. Does the proposed change involve a significant increase in the probability or consequences of an accident previously evaluated?

Response: No.

The proposed change deletes reporting requirements. Sending reports to the NRC is not an initiator of any accident previously evaluated. Consequently, the probability of any accident previously evaluated is not significantly increased. Sending reports to the NRC has no effect on the ability of equipment to mitigate an accident previously evaluated. As a result, the consequences of any accident previously evaluated is not significantly affected.

Therefore, the proposed change does not involve a significant increase in the probability or consequences of an accident previously evaluated.

2. Does the proposed change create the possibility of a new or different kind of accident from any accident previously evaluated?

Response: No.

The proposed change does not involve a physical alteration of the plant (no new or different type of equipment will be installed) or a change in the methods governing normal plant operation.

Therefore, the proposed change does not create the possibility of a new or different kind of accident from any previously evaluated.

3. Does the proposed change involve a significant reduction in a margin of safety?

Response: No.

The deletion of reporting requirements does not result in a significant reduction in the margin of safety. The ITS eliminates the requirements for many such reports and, in many cases, relies on the reporting requirements of 10 CFR 50.73 or other regulatory requirements. The change to reporting requirements does not affect the margin of safety because the regulations provide adequate reporting requirements, or the reports do not affect continued plant operation.

Therefore, the proposed change does not involve a significant reduction in a margin of safety.

Specific Proposed NSHC (Change Does Not Fall Into One of Eight Categories of Less Restrictive Changes)

ITS Chapter 1.0, “Use and Applications,” Less Restrictive Change L01 (LAR, Attachment 1, Volume 1; page 112 of 114):

1. Does the proposed change involve a significant increase in the probability or consequences of an accident previously evaluated?

Response: No.

The proposed change eliminates certain Completion Times from the Technical Specifications. Completion Times are not an initiator to any accident previously evaluated. As a result, the probability of an accident previously evaluated is not affected. The consequences of an accident during the revised Completion Time are no different than the consequences of the same accident during the existing Completion Times. As a result, the consequences of an accident previously evaluated are not affected by this change. The proposed change does not alter or prevent the ability of structures, systems, and components (SSCs) from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences. Therefore, the proposed change does not involve a significant increase in the probability or consequences of an accident previously evaluated.

2. Does the proposed change create the possibility of a new or different kind of accident from any accident previously evaluated?

Response: No.

The change does not involve a physical alteration of the plant (i.e., no new or different type of equipment will be installed) or a change in the methods governing normal plant operation. The change does not alter any assumptions made in the safety analysis. Therefore, the proposed change does not create the possibility of a new or different kind of accident from any accident previously evaluated.

3. Does the proposed change involve a significant reduction in a margin of safety?

Response: No.

The proposed change to delete the second Completion Time does not alter the manner in which safety limits, limiting safety system settings or limiting conditions for operation are determined. The safety analysis acceptance criteria are not affected by this change. The proposed change will not result in plant operation in a configuration outside of the design basis. Therefore, the proposed change does not involve a significant reduction in a margin of safety.

ITS Section 3.0, “LCO and SR Applicability,” Less Restrictive Change L01 (LAR, Attachment 1, Volume 3, page 57 of 64):

1. Does the proposed change involve a significant increase in the probability or consequences of an accident previously evaluated?

Response: No.

The proposed change allows a delay time before declaring supported TS systems inoperable when the associated snubber(s) cannot perform its required safety function. Entrance into Actions or delaying entrance into Actions is not an initiator of any accident previously evaluated. Therefore, the probability of an accident previously evaluated is not significantly increased. The consequences of an accident while relying on the delay time allowed before declaring a TS supported system inoperable and taking its Conditions and Required Actions are no different than the consequences of an accident under the same plant conditions while relying on the existing TS supported system Conditions and Required Actions. Therefore, the consequences of an accident previously evaluated are not significantly increased by this change. Therefore, this change does not involve a significant increase in the probability or consequences of an accident previously evaluated.

2. Does the proposed change create the possibility of a new or different kind of accident from any accident previously evaluated?

Response: No.

The proposed change allows a delay time before declaring supported TS systems inoperable when the associated snubber(s) cannot perform its required safety function. The proposed change does not involve a physical alteration of the plant (no new or different type of equipment will be installed) or a change in the methods governing normal plant operation. Thus, this change does not create the possibility of a new or different kind of accident from any accident previously evaluated.

3. Does the proposed change involve a significant reduction in a margin of safety?

Response: No.

The proposed change allows a delay time before declaring supported TS systems inoperable when the associated snubber(s) cannot perform its required safety function. The proposed change restores an allowance in the pre-ISTS conversion TS that was unintentionally eliminated by the conversion. The pre-ISTS TS were considered to provide an adequate margin of safety for plant operation, as does the post-ISTS conversion TS. Therefore, this change does not involve a significant reduction in a margin of safety.

ITS Section 3.0, “LCO and SR Applicability,” Less Restrictive Change L02 (LAR, Attachment 1, Volume 3, page 60 of 64):

1. Does the change involve a significant increase in the probability or consequences of an accident previously evaluated?

Response: No.

The proposed change allows entry into a MODE while relying on ACTIONS. Being in an ACTION is not an initiator of any accident previously evaluated. Consequently, the probability of an accident previously evaluated is not significantly increased. The consequences of an accident while relying on ACTIONS as allowed by the proposed LCO 3.0.4 are no different than the consequences of an accident while relying on ACTIONS for other reasons, such as equipment inoperability. Therefore, the consequences of an accident previously evaluated are not significantly increased by this change. Therefore, this change does not involve a significant increase in the probability or consequences of an accident previously evaluated.

2. Does the change create the possibility of a new or different kind of accident from any accident previously evaluated?

Response: No.

The proposed change does not involve a physical alteration of the plant (no new or different type of equipment will be installed). Thus, this change does not create the possibility of a new or different kind of accident from any accident previously evaluated.

3. Does this change involve a significant reduction in a margin of safety?

Response: No.

The proposed change allows entry into a MODE or other specified conditions in the Applicability while relying on ACTIONS. The Technical Specifications allow operation of the plant without a full complement of equipment. The risk associated with this allowance is managed by the imposition of ACTIONS and Completion Times. The net effect of ACTIONS and Completion Times on the margin of safety is not considered significant. The proposed change does not change the ACTIONS or Completion Times of the Technical Specifications. The proposed change allows the ACTIONS and Completion Times to be used in new circumstances. However, this use is predicated on an assessment which focuses on managing plant risk. In addition, most current allowances to utilize the ACTIONS and Completion Times which do not require risk assessment are eliminated. As a result, the net change to the margin of safety is insignificant. Therefore, this change does not involve a significant reduction in a margin of safety.

The NRC staff has reviewed the licensee's generic and specific NSHC analyses of each classification of change and, based on this review, it appears that the three standards of 10 CFR 50.92(c) are satisfied for each proposed classification of change. Therefore, the NRC staff proposes to determine that the amendment request involves no significant hazards consideration.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

III. Opportunity to Request a Hearing; Petition for Leave to Intervene

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the NRC's PDR, located at O1F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The requestor/petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

IV. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call to 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from August 16, 2012. Non-timely filings will not be entertained absent a determination by the presiding officer that the petition or request should be granted or the contentions should be admitted, based on a balancing of the factors specified in 10 CFR 2.309(c)(1)(i)-(viii).

For further details with respect to this action, see the application for amendment dated July 29, 2011.

Attorney for licensee: Douglas K. Porter, Esquire, Southern California Edison Company, 2244 Walnut Grove Avenue, Rosemead, California 91770.

NRC Branch Chief: Michael T. Markley.

Dated at Rockville, Maryland, this 8th day of August 2012.
For the Nuclear Regulatory Commission.
Joseph M. Sebrosky,
Senior Project Manager, Plant Licensing Branch IV, Division of Operating Reactor Licensing, Office of Nuclear Reactor Regulation.

[FR Doc. 2012-20114 Filed 8-15-12; 8:45 am]

BILLING CODE 7590-01-P